DEPARTMENT OF THE TREASURY

Submission for OMB Review; Comment Request

January 24, 2013.

The Department of the Treasury will submit the following information collection request to the Office of Management and Budget (OMB) for review and clearance in accordance with the Paperwork Reduction Act of 1995, Public Law 104-13, on or after the date of publication of this notice.

DATES: Comments should be received on or before February 28, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Financial Management Service (FMS)

OMB Number: 1510-0074.

Type of Review: Extension without change of a currently approved collection.

Title: Electronic Funds Transfer (EFT) Market Research Study.

Abstract: This is a generic clearance to conduct customer satisfaction surveys. The need for these surveys arises from Congressional directive that accompanied legislation enacted in 1996, as part of the Debt Collection Improvement Act (Pub. L. 104-134), expanding the scope of check recipients required to use direct deposit to receive Federal benefit payments (see 31 U.S.C. 3332). Congress directed Treasury to “study the socioeconomic and demographic characteristics of those who currently do not have Direct Deposit and determine how best to increase usage among all groups.”

Affected Public: Individuals or Households.

Estimated Total Burden Hours: 7,500.

Dawn D. Wolfgang,
Treasury PRA Clearance Officer.

[FR Doc. 2013-01814 Filed 1-28-13; 8:45 am]

BILLING CODE 4810-35-P